DEPARTMENT OF TRANSPORTATION

Federal Aviation Administration

Stand-Alone Airborne Navigation Equipment Using the Global Positioning System (GPS) Augmented by the Wide Area Augmention System (WAAS)

AGENCY: Federal Aviation Administration (DOT).

ACTION: Notice of availability and request for public comment.

SUMMARY: This notice announces the availability of and requests comments on a revised draft Technical Standard Order (TSO) C-146a, Stand Alone Airborne Navigation Equipment Using the GPS Augmented by the WAAS. The draft TSO tells persons seeking a TSO authorization or letter of design approval what minimum performance standards (MPS) their stand-alone airborne navigation equipment, using GPS augmented by the WAAS must meet to obtain approval and be identified with the applicable TSO marking.

DATES: Comments submitted must be received on or before July 19, 2002.

ADDRESSES: Send all comments on the proposed technical standard order to: Federal Aviation Administration (FAA), Aircraft Certification Service, Aircraft Engineering Division, Avionic Systems Branch, AIR-130, 800 Independence Avenue, SW., Washington, DC 20591. Or Deliver comments to: Federal Aviation Administration, Room 815, 800 Independence Avenue, SW., Washington, DC 20591.

FOR FURTHER INFORMATION CONTACT: Michelle Swearingen, Federal Aviation Administration (FAA), Aircraft Certification Service, Aircraft Engineering Division, Avionic Systems Branch, AIR-130, 800 Independence Avenue, SW., Washington, DC 20591, Telephone: (202) 267-9897, FAX: (202) 267-5340.

SUPPLEMENTARY INFORMATION:

Comments Invited

Interested person are invited to comment on the draft TSO listed in this notice by submitting such written data, views, or arguments, as they desire, to the aforementioned specified address. Comments must be marked “Comments to TSO C-146a.” Comments received on the draft Technical Standard Order may be examined, both before and after the closing date, in Room 815, FAA Headquarters Building (FOB-10A), 800 Independence Avenue, SW., Washington, DC 20591, weekdays except Federal holidays, between 8:30 a.m. and 4:30 p.m. All communication received on or before the closing date for comment specified will be considered by the Director of the Aircraft Certification service before issuing the final TSO.

How To Obtain Copies

A copy of the revised draft TSO may be obtained via Internet (http://www.faa.gov/avr/air/airhome.htm) or on request from the individual listed under FOR FURTHER INFORMATION CONTACT.

Issued in Washington, DC, on May 15, 2002.
Brian A. Yanez,
Acting Manager, Aircraft Engineering Division, Aircraft Certification Service.

[FR Doc. 02-12610 Filed 5-17-02; 8:45 am]

BILLING CODE 4710-13-M